DEPARTMENT OF AGRICULTURE

Agricultural Marketing Service

[Docket No. TM-07-04]

Notice of Release of National Organic Program Noncompliance and Adverse Action Records

AGENCY: Agricultural Marketing Service, USDA.

ACTION: Notice.

SUMMARY: The U.S. Department of Agriculture's (USDA) Agricultural Marketing Service (AMS) is publishing this notice to inform accredited certifying agents and producers and handlers certified to the National Organic Program (NOP) of AMS' intention to release notices of noncompliance, and the identity of each entity which has been suspended or revoked, as well as the reasons for these actions. The release of these materials complies with the Freedom of Information Act (FOIA) in which any information that is not protected from disclosure by a FOIA exemption must be provided to the public.

FOR FURTHER INFORMATION CONTACT: Mark Bradley, Associate Deputy Administrator, National Organic Program, 1400 Independence Avenue, SW., Room 4008-S, Ag Stop 0268, Washington, DC, 20250-0268; Telephone: (202) 720-3252; Fax: (202) 205-7808; e-mail: mark.bradley@usda.gov.

SUPPLEMENTARY INFORMATION:

I. Statutory Authority

This notice is issued under the FOIA as amended, 5 U.S.C. 552, and the Organic Foods Production Act (OFPA) of 1990, as amended, 7 U.S.C. 6501 et seq.

II. Background

On April 12, 2006, AMS received a FOIA request for notices of noncompliance and records of suspension and revocation of certification and accreditation issued pursuant to the NOP. The Agency maintains the records sought by the FOIA requester pursuant to its administration of the OFPA.

The FOIA provides for any person to request and access federal agency records except for those records, or portions of records, which are protected by one of the nine exemptions under the FOIA. The records collected and maintained under the OFPA are not statutorily exempt from disclosure, and therefore in accordance with the FOIA and USDA's FOIA implementing regulations, 7 CFR part 1, AMS is required to release responsive records, or portions of responsive records, that are not protected from disclosure by any FOIA exemption.

III. Action

Pursuant to 7 CFR 205.662, accredited certifying agents are obligated to issue noncompliance notifications, notices of suspension, and notices of revocation regarding NOP certification when circumstances warrant such action. Likewise, pursuant to 7 CFR 205.665, the NOP is obligated to issue notifications of noncompliance and notices of suspension and revocation of accreditation as warranted.

Some of the information contained in these notification letters, in particular those issued to certified operations, may contain confidential business information. Therefore, the agency will conduct a thorough review of those notification documents issued since implementation of the NOP on October 21, 2002, pursuant to 7 CFR 205.662 and 205.665, and in accordance with 5 U.S.C. 552(b)(4), withhold confidential commercial or financial information. Examples of the information which may appear in responsive records and that is subject to withholding include: Product formulations; supply sources; amount paid or owed in certification fees; sales volumes; yield quantities; amount of acreage planted to a specific crop or designated as pasture; the number of livestock units; the identity of an entity for which a private label is produced.

Dated: December 15, 2006.
Lloyd C. Day,
Administrator, Agricultural Marketing Service.

[FR Doc. E6-21838 Filed 12-20-06; 8:45 am]

BILLING CODE 3410-02-P